DEPARTMENT OF ENERGY

Federal Energy Regulatory Commission

[Docket No. RM01-5-000]

Electronic Tariff Filings; Notice of Technical Conference

March 9, 2010.

As has been previously noticed, in Order No. 714,¹ the Commission adopted regulations requiring tariff and tariff related filings to be made electronically starting April 1, 2010. One of the required electronic tariff filing's data elements is the Type of Filing Code.

¹ Electronic Tariff Filings, Order No. 714, 73 FR 57,515 (Oct. 3, 2008), 124 FERC ¶ 61,270, FERC Stats. & Regs [Regulations Preambles] ¶ 31,276 (2008) (Sept. 19, 2008).

Several technical conferences have been held to address issues related to the Type of Filing Codes as they will affect Natural Gas Act, Natural Gas Policy Act and Interstate Commerce Act pipelines as well as Federal Power Act Public utilities. Specifically, these meetings have addressed the tariff filing definitions used for electronic filings and the attachments that are required, in accordance with the Commission's regulations, for each tariff filing type.

Take notice that a final technical conference on Type of Filing Codes will be held to address specific issues related to Federal Power Marketing Authorities on March 16, 2010 from 2 p.m.-3:30 p.m. EST. Teleconferencing will be available for the public. The meetings are open to the public. No preregistration or participation fee is required. The number for teleconferencing in these meetings will be posted on http://www.ferc.gov/docs-filing/etariff.asp and an RSS alert of the posting will be issued. The meeting will be held at the Commission's offices, 888 First Street, NE., Washington, DC. All interested persons are invited to participate by phone or in person.

The documents that will be discussed are located at http://www.ferc.gov/docs-filing/etariff.asp.

FERC meetings are accessible under section 508 of the Rehabilitation Act of 1973. For accessibility accommodations please send an e-mail to accessibility@ferc.gov or call toll free (866) 208-3372 (voice) or (202) 502-8659 (TTY), or send a fax to (202) 208-2106 with the required ac­com­mo­da­tions.

For more information about these conferences, please contact Keith Pierce, Office of Energy Market Regulation at (202) 502-8525 or send an e-mail to ETariff@ferc.gov.

Kimberly D. Bose,
Secretary.

[FR Doc. 2010-5642 Filed 3-15-10; 8:45 am]

BILLING CODE 6717-01-P